NUCLEAR REGULATORY COMMISSION

[Docket Nos. 50-338 and 50-339; NRC-2020-0201]

Notice of Intent To Conduct Scoping Process and Prepare Supplement To Draft Environmental Impact Statement Virginia Electric and Power Company North Anna Power, Units 1 and 2

AGENCY: Nuclear Regulatory Commission.

ACTION: Subsequent license renewal application supplement; intent to conduct scoping process and prepare supplement to draft environmental impact statement; and request for comment.

SUMMARY: The U.S. Nuclear Regulatory Commission (NRC) has received Environmental Report, Supplement 1, from Virginia Electric and Power Company (Dominion, the applicant), dated September 28, 2022, related to Dominion's application for subsequent license renewal (SLR) of Renewed Facility Operating License Nos. NPF-4 and NPF-7 for North Anna Power Station Units 1 and 2 (North Anna).

The NRC staff will prepare a supplement to its draft supplemental environmental impact statement (DSEIS) for North Anna subsequent license renewal, i.e., NUREG-1437, Supplement 7, Second Renewal, “Generic Environmental Impact Statement for License Renewal of Nuclear Plants, Supplement 7, Second Renewal, Regarding Subsequent License Renewal for North Anna Power Station Units 1 and 2, Draft Report” (August 2021). The subsequent renewed operating licenses would authorize the applicant to operate North Anna for an additional 20 years beyond the period specified in each of the current renewed licenses. The current renewed operating licenses for North Anna Units 1 and 2 expire on April 1, 2038, and August 21, 2040, respectively. The NRC will conduct a limited scoping process to gather information necessary to prepare a supplement to its DSEIS to evaluate the environmental impacts of SLR of the operating licenses for North Anna. The NRC is seeking public comment on the proper scope of the site-specific environmental impact statement (EIS) supplement to be prepared for this action.

DATES: Submit comments by December 15, 2022. Comments received after this date will be considered if it is practical to do so, but the NRC is able to ensure consideration only for comments received on or before this date.

ADDRESSES: You may submit comments by any of the following methods; however, the NRC encourages electronic comment submission through the Federal rulemaking website (https://www.regulations.gov).

• Federal Rulemaking Website: Go to https://www.regulations.gov and search for Docket ID NRC-2020-0201. Address questions about Docket IDs in Regulations.gov to Stacy Schumann; telephone: 301-415-0624; email: Stacy.Schumann@nrc.gov. For technical questions, contact the individual listed in the For Further Information Contact section of this document.

• Email: Comments may be submitted to the NRC electronically using the email address NorthAnnaEnvironmental@nrc.gov.

• Mail comments to: Office of Administration, Mail Stop: TWFN-7-A60M, U.S. Nuclear Regulatory Commission, Washington, DC 20555-0001, ATTN: Program Management, Announcements and Editing Staff.

For additional direction on obtaining information, see “Obtaining Information” in the SUPPLEMENTARY INFORMATION section of this document.

FOR FURTHER INFORMATION CONTACT: Tam Tran, Office of Nuclear Material Safety and Safeguards, U.S. Nuclear Regulatory Commission, Washington, DC 20555-0001; telephone: 301-415-3617; email: Tam.Tran@nrc.gov.

SUPPLEMENTARY INFORMATION:

I. Obtaining Information and Submitting Comments

A. Obtaining Information

Please refer to Docket ID NRC-2020-0201 when contacting the NRC about the availability of information for this action. You may obtain publicly available information related to this action using any of the following methods:

• Federal Rulemaking Website: Go to https://www.regulations.gov and search for Docket ID NRC-2020-0201.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Public Library: A copy of the subsequent license renewal Environmental Report, Supplement 1, for North Anna, is available for public review at the Louisa County Library, 881 Davis Highway, Mineral, VA 23117.

B. Submitting Comments

The NRC encourages electronic comment submission through the Federal Rulemaking Website (https://www.regulations.gov). Please include Docket ID NRC-2020-0201 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

By letter dated August 24, 2020, the NRC received an application from Dominion, filed pursuant to Section 103 of the Atomic Energy Act of 1954, as amended (the Act), and Part 54 of title 10 of the Code of Federal Regulations (10 CFR), “Requirements for Renewal of Operating Licenses for Nuclear Power Plants,” to renew the operating licenses for North Anna. The North Anna units are pressurized water reactors designed by Westinghouse Electric Corporation and are located in Louisa County, Virginia. Each unit consists of a Westinghouse pressurized-water reactor nuclear steam supply system. A notice of receipt of the SLR application was published in the Federal Register on September 21, 2020 (85 FR 59334). A notice of acceptance for docketing of the application and opportunity for hearing regarding the SLR of the facility operating licenses was published in the Federal Register on October 15, 2020 (85 FR 65438). A public scoping meeting was held on November 4, 2020. In August 2021, the NRC staff issued its draft supplemental EIS for North Anna subsequent license renewal, in which it relied, in part, on the 2013 Generic Environmental Impact Statement (GEIS) and 10 CFR part 51, subpart A, Appendix B, Table B-1, to evaluate the environmental impacts of generic “Category 1” issues.

On February 24, 2022, the Commission issued several decisions, including CLI-22-02 and CLI-22-03, in which the Commission held that “the 2013 GEIS did not consider the impacts from operations during the subsequent license renewal period and applicants for subsequent license renewal must evaluate Category 1 impacts in their environmental reports. Accordingly, these impacts must be addressed on a site-specific basis in the Staff's site-specific environmental impact statements.” In addition, the Commission held that 10 CFR 51.53(c)(3) only applies to an initial license renewal applicant's preparation of an environmental report. As a result, the Commission determined, among other things, that the NRC staff's environmental reviews of pending subsequent license renewal applications are incomplete, and it directed the staff to prepare an update to the 2013 GEIS. In CLI-22-03, the Commission further stated that if an applicant does not wish to wait for the completion of the generic analysis and associated rulemaking, “the applicant may submit a revised environmental report providing information on environmental impacts during the subsequent license renewal period.” Following the issuance of CLI-22-03, the NRC received an Environmental Report, Supplement 1, from Dominion, dated September 28, 2022, related to the subsequent renewal of the operating licenses for North Anna.

Given recent circumstances requiring the preparation of a supplement to the previous DSEIS for subsequent license renewal for North Anna Units 1 and 2, the NRC staff will conduct an additional limited scoping process associated with this action. Consistent with Commission direction, the NRC staff intends to prepare a draft supplement to the North Anna DSEIS for public comment, in which it will review all applicable “Category 1” (generic) issues listed in the 2021 DSEIS at Table 3-1, for the purpose of making site-specific findings (e.g., SMALL, MODERATE, LARGE) on those issues. The NRC staff also intends to review “Category 2” (site-specific) issues listed in the 2021 DSEIS at Table 3-2 for any significant new information that may have arisen following the issuance of the DSEIS (i.e., August 2021) and will update the site-specific analyses, as appropriate. Environmental scoping comments should address matters that fit within these two categories; comments that do not fit into these two categories will not be considered.

III. Request for Comment

This notice informs the public of the NRC's intention to prepare a DSEIS supplement related to the subsequent license renewal application and to provide the public an opportunity to participate in the environmental scoping process, as defined in 10 CFR part 51, “Environmental Protection Regulations for Domestic Licensing and Related Regulatory Functions.”

Participation in the scoping process by members of the public and local, State, Tribal, and Federal government agencies is encouraged. The scoping process for the supplement to the DSEIS will be used to accomplish the following:

a. Define the proposed action, which is to be the subject of the supplement to the DSEIS, to the extent not addressed in the DSEIS;

b. Determine the scope of the supplement to the DSEIS and identify the significant issues to be analyzed in depth;

c. Identify and eliminate from detailed study those issues that are peripheral or are not significant; or were covered by a prior environmental review;

d. Identify any environmental assessments and other EISs that are being or will be prepared that are related to, but are not part of, the scope of the supplement to the DSEIS being considered;

e. Identify other environmental review and consultation requirements related to the proposed action;

f. Indicate the relationship between the timing of the preparation of the environmental analyses and the Commission's tentative planning and decisionmaking schedule;

g. Identify any cooperating agencies and, as appropriate, allocate assignments for preparation and schedules for completing the supplement to the DSEIS to the NRC and any cooperating agencies; and

h. Describe how the supplement to the DSEIS will be prepared, including any contractor assistance to be used.

The NRC invites the following entities to participate in scoping:

a. The applicant, Dominion;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene.

Participation in the scoping process for the North Anna subsequent license renewal supplement to the DSEIS does not entitle participants to become parties to the proceeding to which the supplement to the DSEIS relates. Matters related to participation in any hearing are outside the scope of matters to be discussed.

IV. Availability of Documents

The documents identified in the following table are available to interested persons through one or more of the following methods, as indicated.

Document description | ADAMS accession No.
Subsequent License Renewal Application—Appendix E Environmental Report, Supplement 1, dated September 28, 2022 | ML22272A041.
NUREG-1437 “Generic Environmental Impact Statement for License Renewal of Nuclear Plants, Supplement 7, Second Renewal, Regarding Subsequent License Renewal for North Anna Power Station Units 1 and 2, Draft Report,” dated August 2021 | ML21228A084.
North Anna subsequent license renewal application, dated August 24, 2020 | ML20246G703 (Package).
Commission Memorandum and Order CLI-22-03, dated February 24, 2022 | ML22055A554.

Dated: November 8, 2022.
For the Nuclear Regulatory Commission.
John M. Moses,
Deputy Director, Division of Rulemaking, Environmental, and Financial Support, Office of Nuclear Materials, Safety and Safeguards.

[FR Doc. 2022-24746 Filed 11-14-22; 8:45 am]

BILLING CODE 7590-01-P